DEPARTMENT OF ENERGY

Federal Energy Regulatory Commission

[Project No. 2445-028]

Notice of Application Tendered for Filing With the Commission and Soliciting Additional Study Requests and Establishing Procedural Schedule for Relicensing and a Deadline for Submission of Final Amendments; Green Mountain Power Corporation

Take notice that the following hydroelectric application has been filed with the Commission and is available for public inspection.

a. Type of Application: Subsequent Minor License.

b. Project No.: 2445-028.

c. Date filed: December 23, 2021.

d. Applicant: Green Mountain Power Corporation (GMP).

e. Name of Project: Center Rutland Hydroelectric Project (project).

f. Location: On Otter Creek in Rutland County, Vermont. The project does not occupy any federal land.

g. Filed Pursuant to: Federal Power Act 16 U.S.C. 791(a)-825(r).

h. Applicant Contact: Mr. John Greenan, PE, Green Mountain Power Corporation, 2152 Post Road, Rutland, VT 05701; Phone at (802) 770-2195, or email at John.Greenan@greenmountainpower.com.

i. FERC Contact: Taconya D. Goar at (202) 502-8394, or Taconya.Goar@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: February 21, 2022.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: Center Rutland Hydroelectric Project (P-2445-028).

m. The application is not ready for environmental analysis at this time.

n. Project Description: The existing Center Rutland Project consists of: (1) A 190-foot-long, 14-foot-high concrete and stone masonry gravity dam that includes: (i) A 174-foot-long spillway section with 2.3-foot-high wooden flashboards and a crest elevation of 507.1 feet mean seal level (msl) at the top of the flashboards; and (ii) a 16-foot-long non-overflow section; (2) an impoundment with a surface area of 13 acres and a storage capacity of 30 acre-feet at an elevation of 507.4 feet msl; (3) a forebay; (4) a concrete and marble masonry intake structure; (5) a 6-foot-diameter, 75-foot-long steel penstock; (6) a 40-foot-long, 33-foot-wide stone and marble masonry powerhouse containing one 275-kilowatt horizontal-shaft turbine-generator unit; (7) a substation; (8) an 80-foot-long, 12.47-kilovolt transmission line; (9) a 0.35-mile-long fiber optic cable for smart grid communications with the electric system; and (10) appurtenant facilities. The project creates an approximately 100-foot-long bypassed reach of Otter Creek.

The project includes a small off-street parking area (with 3 to 5 car spaces), signage, landscaping, and a marked footpath to Otter Creek.

The current license requires the project to operate in a run-of-river mode such that outflow from the project approximates inflow to the impoundment to protect aquatic resources in Otter Creek. The current license also requires a minimum bypassed reach flow of 80 cubic feet per second or inflow to the impoundment, whichever is less, from June 1 through October 15 to protect aquatic resources in Otter Creek and aesthetic resources in the project area. The average annual generation of the project was approximately 541.7 megawatt-hours from 2014 through 2020.

The applicant proposes to: (1) Continue to operate the project in a run-of-river mode to protect aquatic resources; (2) continue to release a minimum bypassed reach flow of 80 cfs or inflow, whichever is less, from June 1 through October 15, to protect aquatic resources; (3) release a minimum bypassed reach flow of 40 cfs or inflow, whichever is less, from October 16 through May 31, to protect aquatic resources; and (4) implement a seasonal clearing restriction from April 15 through October 31, for trees that are 4 inches in diameter or greater, to protect the federally threatened northern long-eared bat. In addition, GMP states that the flashboards have not been in place since prior to 2012, and proposes to reinstall them.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-2445). For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural schedule: The application will be processed according to the following preliminary schedule. Revisions to the schedule will be made as appropriate.

Issue Deficiency Letter (if necessary)—February 2022

Request Additional Information—February 2022

Issue Scoping Document 1 for comments—May 2022

Request Additional Information (if necessary)—June 2022

Issue Acceptance Letter—June 2022

Issue Scoping Document 2—July 2022

Issue Notice of Ready for Environmental Analysis—July 2022

q. Final amendments to the application must be filed with the Commission no later than 30 days from the issuance date of the notice of ready for environmental analysis.

Dated: January 6, 2022.
Kimberly D. Bose,
Secretary.

[FR Doc. 2022-00413 Filed 1-11-22; 8:45 am]

BILLING CODE 6717-01-P